DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 28, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Dairy Tariff-Rate Import Quota Licensing Regulation.

OMB Control Number: 0551-0001.

Summary of Collection: The Dairy Tariff-Rate Import Quota regulation (7 CFR 6.20-6.37) governs the administration of the import licensing system applicable to most dairy products subject to tariff-rate quotas (TRQs). The importation of most cheese made from cow's milk and certain noncheese dairy articles (butter, dried milks, and butter substitutes) are subject to TRQs and must be accompanied by an import license issued by the Department to enter at the lower tariff. Importers without licenses may enter these dairy articles, but are required to pay the higher tariff.

Each quota year, applicants for historical, non-historical and designated licenses must certify their eligibility for the following quota year through the online Agricultural Trade License Administration System (ATLAS) platform. The ATLAS application process requires applicants to: (1) certify they are an importer, manufacturer, or exporter of certain dairy products; and (2) certify they meet the eligibility requirements of § 6.23 of the Regulation. Applicants for non-historical licenses must request licenses in descending order of preference for specific products and countries listed on the form.

Need and Use of the Information: The information collected will be used by the Foreign Agricultural Service, Dairy Import Licensing Group, in the administration of the tariff-rate import quota licensing system for certain dairy products and the issuance of licenses in accordance with the Regulation. The Regulation requires records pertaining to an applicant's eligibility to be retained for 5 years after the end of a quota year.

Description of Respondents: Importers and manufacturers of cheese and non-cheese dairy products, and exporters of non-cheese dairy products.

Number of Respondents: 700.

Frequency of Responses: Annually.

Total Burden Hours: 394.

Ruth Brown,
Departmental Information Collection Clearance Officer.

[FR Doc. 2023-26164 Filed 11-27-23; 8:45 am]

BILLING CODE 3410-10-P